NATIONAL AERONAUTICS AND SPACE ADMINISTRATION

Privacy Act System of Records Notice (11-001)

AGENCY: National Aeronautics and Space Administration (NASA).

ACTION: Notice of Privacy Act system of records.

SUMMARY: Each Federal agency is required by the Privacy Act of 1974 to publish a description of the systems of records it maintains containing personal information when a system is substantially revised, deleted, or created. In this notice, NASA provides the required information for a new Agency-wide Privacy Act system of records generated in the process of complying with NASA's anti-harassment procedural requirements governing the reporting, fact-finding and resolution of allegations of harassment reported to NASA by its employees and contractors. This new system of records will assist NASA in fulfilling its obligations pursuant to the Supreme Court cases of Burlington Industries v. Ellerth, 524 U.S. 742 (1998), and Faragher v. City of Boca Raton, 524 U.S. 775 (1998): (1) To prevent harassment before it becomes severe or pervasive; (2) to conduct a prompt, thorough, and impartial investigation into allegations of harassing conduct; and (3) to take immediate and appropriate corrective action when the Agency determines that harassing conduct has occurred.

DATES: Submit comments on or before 60 calendar days from the date of this publication.

ADDRESSES: Patti F. Stockman, NASA Privacy Act Officer, Office of the Chief Information Officer, NASA Headquarters, 300 E Street, SW., Washington, DC 20546-0001, 202-358-4787, NASA-PAOfficer@nasa.gov.

FOR FURTHER INFORMATION CONTACT: Patti F. Stockman, NASA Privacy Act Officer, 202-358-4787, NASA-PAOfficer@nasa.gov.

SUPPLEMENTARY INFORMATION: None.

SYSTEM NUMBER:

NASA 10HRCF

SYSTEM NAME:

Harassment Report Case Files

SECURITY CLASSIFICATION:

None

SYSTEM LOCATION:

Locations 1 through 11 as set forth in Appendix A.

CATEGORIES OF INDIVIDUALS COVERED BY THE SYSTEM:

This system maintains information on individuals who have reported harassing conduct by or against NASA civil servants. This includes but is not limited to current and former NASA employees and contractors and others who have reported allegations of harassment by or against NASA civil servants. It also includes information on witnesses and others contacted as part of the fact-finding process.

CATEGORIES OF RECORDS IN THE SYSTEM:

This system maintains records including names, position, and contact information of individuals involved in reports or allegations of harassment, as well as facts gathered about alleged harassment incidents. It also includes records such as fact-finding reports, findings and corrective actions, if necessary, and close out letters.

AUTHORITY FOR MAINTENANCE OF THE SYSTEM:

42 U.S.C. 2473, 44 U.S.C. 3101, 29 U.S.C. 621 et. seq.; 29 U.S.C. 791 et. seq.; 42 U.S.C. 2000e-16 et seq.; 42 U.S.C. 12101; Exec. Order No. 11478, 34 FR 12985; Exec. Order No. 13087, 63 FR 30097; Exec. Order No. 13152, 65 FR 26115.

ROUTINE USES OF RECORDS MAINTAINED IN THE SYSTEM, INCLUDING CATEGORIES OF USERS AND THE PURPOSE OF SUCH USES:

Any disclosures of information will be compatible with the purpose for which the Agency collected the information. Records from this system may be disclosed, as necessary:

(1) To any source from which additional information is requested in the course of processing a report of harassment made pursuant to NASA policy;

(2) To contractors conducting the fact-finding inquiry on behalf of NASA;

(3) To an authorized grievance official, complaints examiner, administrative judge, contract investigator, arbitrator, or duly authorized official for use in investigation, litigation, or settlement of a non-harassment grievance, complaint, or appeal filed by an employee;

(4) Under NASA standard routine uses 1 through 6 as set forth in Appendix B.

POLICIES AND PRACTICES FOR STORING, RETRIEVING ACCESSING, RETAINING, AND DISPOSING OF RECORDS IN THE SYSTEM:

STORAGE:

These records are maintained in paper file folders and on electronic media.

RETRIEVABILITY:

These records may be retrieved by the name of the alleged harassee or by the name of the alleged harasser.

SAFEGUARDS:

Records are maintained in locked file cabinets or in secured rooms with access limited to those whose official duties require access. Electronic data are maintained in encrypted files on secure servers with limited access to computerized records through use of access codes and entry logs, to only those whose official duties require access.

RETENTION AND DISPOSAL:

These records will be maintained for four years after the report of harassment is closed, in accordance with the disposition authorization, when approved under NARA N1-255-11-01, that will be incorporated in the NPR 1441.1 NASA Records Retention Schedules as Schedule 3, Item 53.5.

SYSTEM MANAGER AND ADDRESS:

System Manager: Agency Anti-Harassment Coordinator, NASA Headquarters, 300 E Street, SW., Mail Stop 4W39, Washington, DC 20546-0001.

Subsystem Managers: Center Anti-Harassment Coordinators at each of the locations 1 through 11 as set forth in Appendix A.

NOTIFICATION PROCEDURE:

Information may be obtained from the cognizant system or subsystem manager of locations listed above where the requested records are held.

RECORD ACCESS PROCEDURES:

Individuals who wish to gain access to their records should submit their request in writing to the System Manager or Subsystem Manager at locations listed above.

CONTESTING RECORD PROCEDURES:

The NASA regulations for access to records and for contesting contents and appealing initial determinations by the individual concerned appear in 14 CFR Part 1212.

RECORD SOURCE CATEGORIES:

The information is obtained from current and former employees, current and former contractor employees, Fact-Finders, Agency Anti-Harassment Coordinator, and Center Anti-Harassment Coordinators.

EXEMPTIONS CLAIMED FOR THE SYSTEM:

None.

Linda Y. Cureton,
NASA Chief Information Officer.

Appendix A— Location Numbers and Mailing Addresses of NASA Installations at Which Records Are Located

Location 1

NASA Headquarters, National Aeronautics and Space Administration Washington, DC 20546-0001

Location 2

Ames Research Center, National Aeronautics and Space Administration, Moffett Field, CA 94035-1000

Location 3

Dryden Flight Research Center, National Aeronautics and Space Administration, PO Box 273, Edwards, CA 93523-0273

Location 4

Goddard Space Flight Center, National Aeronautics and Space Administration, Greenbelt, MD 20771-0001

Location 5

Lyndon B. Johnson Space Center, National Aeronautics and Space Administration, Houston, TX 77058-3696

Location 6

John F. Kennedy Space Center, National Aeronautics and Space Administration, Kennedy Space Center, FL 32899-0001

Location 7

Langley Research Center, National Aeronautics and Space Administration, Hampton, VA 23681-2199

Location 8

John H. Glenn Research Center at Lewis Field, National Aeronautics and Space Administration, 21000 Brookpark Road, Cleveland, OH 44135-3191

Location 9

George C. Marshall Space Flight Center, National Aeronautics and Space Administration, Marshall Space Flight Center, AL 35812-0001

Location 10

John C. Stennis Space Center, National Aeronautics and Space Administration, Stennis Space Center, MS 39529-6000

Location 11

NASA Shared Services Center (NSSC), Building 5100, Stennis Space Center, MS 39529-6000

Appendix B—Standard Routine Uses—NASA

The following routine uses of information contained in Systems of Records (SORs), subject to the Privacy Act of 1974, are standard for many NASA systems. They are cited by reference in the paragraph “Routine uses of records maintained in the system, including categories of users and the purpose of such uses” of the Federal Register Notice on those systems to which they apply.

Standard Routine Use No. 1—LAW ENFORCEMENT:

In the event this SOR indicates a violation or potential violation of law, whether civil, criminal, or regulatory in nature, and whether arising by general statute or particular program statute, or by regulation, rule or order issued pursuant thereto, the relevant records in the SOR may be referred, as a routine use, to the appropriate agency, whether Federal, State, local or foreign, charged with the responsibility of investigating or prosecuting such violation or charged with enforcing or implementing the statute, or rule, regulation or order issued pursuant thereto.

Standard Routine Use No. 2—DISCLOSURE WHEN REQUESTING INFORMATION:

A record from this SOR may be disclosed as a “routine use” to a Federal, State, or local agency maintaining civil, criminal, or other relevant enforcement information or other pertinent information, such as current licenses, if necessary to obtain information relevant to an agency decision concerning the hiring or retention of an employee, the issuance of a security clearance, the letting of a contract, or the issuance of a license, grant, or other benefit.

Standard Routine Use No. 3—DISCLOSURE OF REQUESTED INFORMATION:

A record from this SOR may be disclosed to a Federal agency, in response to its request, in connection with the hiring or retention of an employee, the issuance of a security clearance, the reporting of an investigation of an employee, the letting of a contract, or the issuance of a license, grant, or other benefit by the requesting agency, to the extent that the information is relevant and necessary to the requesting agency's decision on the matter.

Standard Routine Use No. 4—DISCLOSURE TO THE DEPARTMENT OF JUSTICE FOR USE IN LITIGATION:

A record from this SOR may be disclosed to the Department of Justice when (a) the Agency, or any component thereof; or (b) any employee of the Agency in his or her official capacity; or (c) any employee of the Agency in his or her individual capacity where the Department of Justice or the Agency has agreed to represent the employee; or (d) the United States, where the Agency determines that litigation is likely to affect the Agency or any of its components, is a party to litigation or has an interest in such litigation, and the use of such records by the Department of Justice or the Agency is deemed by the Agency to be relevant and necessary to the litigation provided, however, that in each case it has been determined that the disclosure is compatible with the purpose for which the records were collected.

Standard Routine Use 5—ROUTINE USE FOR AGENCY DISCLOSURE IN LITIGATION:

It shall be a routine use of the records in this SOR to disclose them in a proceeding before a court or adjudicative body before which the agency is authorized to appear, when: (a) The Agency, or any component thereof; or (b) any employee of the Agency in his or her official capacity; or (c) any employee of the Agency in his or her individual capacity where the Agency has agreed to represent the employee; or (d) the United States, where the Agency determines that litigation is likely to affect the Agency or any of its components, is a party to litigation or has an interest in such litigation, and the use of such records by the Agency is deemed to be relevant and necessary to the litigation, provided, however, that in each case, the Agency has determined that the disclosure is compatible with the purpose for which the records were collected.

Standard Routine Use No. 6—SUSPECTED OR CONFIRMED CONFIDENTIALITY COMPROMISE:

A record from this SOR may be disclosed to appropriate agencies, entities, and persons when (1) NASA suspects or has confirmed that the security or confidentiality of information in the SOR has been compromised; (2) NASA has determined that as a result of the suspected or confirmed compromise there is a risk of harm to economic or property interests, identity theft or fraud, or harm to the security or integrity of this system or other systems or programs (whether maintained by NASA or another agency or entity) that rely upon the compromised information; and (3) the disclosure made to such agencies, entities, and persons is reasonably necessary to assist in connection with NASA's efforts to respond to the suspected or confirmed compromise and prevent, minimize, or remedy such harm.

[FR Doc. 2011-31 Filed 1-6-11; 8:45 am]

BILLING CODE 7510-13-P